DEPARTMENT OF ENERGY

Bonneville Power Administration; Electrical Interconnection of the Kittitas Valley Wind Project

AGENCY: Bonneville Power Administration (BPA), Department of Energy (DOE).

ACTION: Notice of availability of record of decision (ROD).

SUMMARY: The Bonneville Power Administration (BPA) has decided to offer Sagebrush Power Partners, LLC, a Large Generator Interconnection Agreement for interconnection of up to 108 megawatts of power into the Federal Columbia River Transmission System. The power would be generated from their proposed Kittitas Valley Wind Project (Wind Project) in Kittitas County, Washington. To interconnect the Wind Project, BPA will construct a new substation (Bettas Road Substation) on the Columbia-Covington 230-kilovolt transmission line about 11 miles northeast of Ellensburg, Washington. This decision to interconnect the Wind Project is consistent with and tiered to BPA's Business Plan Environmental Impact Statement (DOE/EIS-0183, June 1995), and the Business Plan Record of Decision (BP ROD, August 1995).

ADDRESSES: Copies of this tiered ROD and the Business Plan EIS may be obtained by calling BPA's toll-free document request line, 1-800-622-4520. The RODs and EIS are also available on our Web site, http://www.efw.bpa.gov.

FOR FURTHER INFORMATION CONTACT: Richard Yarde, Bonneville Power Administration—KEC-4, P.O. Box 3621, Portland, Oregon 97208-3621; toll-free telephone number 1-800-622-4519; fax number 503-230-5699; or e-mail rryarde@bpa.gov.

Issued in Portland, Oregon, on September 4, 2009.
Stephen J. Wright,
Administrator and Chief Executive Officer.

[FR Doc. E9-22284 Filed 9-15-09; 8:45 am]

BILLING CODE 6450-01-P